DEPARTMENT OF JUSTICE

Antitrust Division

Notice Pursuant to the National Cooperative Research and Production Act of 1993—American Society of Civil Engineers

Notice is hereby given that, on September 17, 2004, pursuant to section 6(a) of the National Cooperative Research and Production Act of 1993, 15 U.S.C. 4301 et seq. (“the Act”), the American Society of Civil Engineers (“ASCE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Society of Civil Engineers, Reston, VA. The nature and scope of ASCE's standards development activities are: to develop and publish standards covering a wide range of civil engineering areas, such as structural, geotechnical, transportation, construction, environmental, water and wastewater, coastal and waterway, fire protection, utilities and architectural engineering.

Dorothy B. Fountain,
Deputy Director of Operations, Antitrust Division.

[FR Doc. 04-23534 Filed 10-20-04; 8:45 am]

BILLING CODE 4410-11-M